FEDERAL ACCOUNTING STANDARDS ADVISORY BOARD

Notice of Issuance of Statement of Federal Financial Accounting Standards

AGENCY: Federal Accounting Standards Advisory Board.

ACTION: Notice of issuance of statement of federal financial accounting standards (SFFAS) No. 19).

Board Action

Pursuant to the Federal Advisory Committee Act (Pub. L. 92-463), as amended, and the FASAB Rules of Procedure, as amended in October, 1999, notice is hereby given that the Federal Accounting Standards Advisory Board (FASAB) has issued Statement of Federal Financial Accounting Standards (SFFAS) No. 19, Technical Amendments to Accounting Standards for Direct Loans and Loan Guarantees in Statement of Federal Financial Accounting Standards No. 2.

The Board approved the Statement in December 2000, and submitted it to FASAB principals for a 90-day review. The review period completed on March 20, 2001.

In SFFAS No. 19, the Board adopted a number of technical amendments to SFFAS No. 2 for the following purposes:

(a) Clarify that the cash flow discount method used in the accounting standards prescribed in SFFAS No. 2 is consistent with the method required in the Federal Credit Reform Act of 1990, as amended in July 1997.

(b) Clarify that the effective interest rate of a cohort of direct loans or loan guarantees is the interest rate adjusted for the interest rate re-estimate, as defined in paragraph 9(A), SFFAS No. 18, Amendments to Accounting Standards for Direct Loans and Loan Guarantees in SFFAS No. 2.

(c) Clarify that the measurement for the default costs of direct loans and loan guarantees should include and exclude certain cash flow elements.

The standards prescribed in SFFAS No. 19 are effective for periods beginning after September 30, 2002. Hard copies of the statement will be mailed to the FASAB mailing list. It is also available on the FASAB web site at www.financenet.gov/fasab.htm or by calling 202-512-7350.

FOR FURTHER INFORMATION CONTACT: Wendy Comes, Executive Director, 441 G St., N.W., Mail Stop 6K17V, Washington, D.C. 20548, or call (202) 512-7350.

Authority: Federal Advisory Committee Act. Pub. L. 92-463.

Dated: March 22, 2001.
Wendy M. Comes,
Executive Director.

[FR Doc. 01-7567 Filed 3-27-01; 8:45 am]

BILLING CODE 1610-01-M